ENVIRONMENTAL PROTECTION AGENCY

[EPA-HQ-OAR-2003-0073; FRL-10260-01-OMS]

Information Collection Request Submitted to OMB for Review and Approval; Comment Request, Distribution of Offsite Consequence Analysis Information Under the Clean Air Act (CAA), as Amended

AGENCY: Environmental Protection Agency (EPA).

ACTION: Notice.

SUMMARY: The Environmental Protection Agency (EPA) has submitted an information collection request (ICR), “Distribution of Offsite Consequence Analysis Information under Section 112(r)(7)(H) of the Clean Air Act (CAA), as amended,” (EPA ICR No. 1981.08, OMB Control No. 2050-0172) to the Office of Management and Budget (OMB) for review and approval in accordance with the Paperwork Reduction Act. This is a proposed extension of the ICR, which is currently approved through November 30, 2022. Public comments were previously requested via the Federal Register on March 1, 2022 (87 FR 11425). EPA received no comments during the 60-day comment period. This notice allows for an additional 30 days for public comments. A fuller description of the ICR is given below, including its estimated burden and cost to the public. An Agency may not conduct or sponsor and a person is not required to respond to a collection of information unless it displays a currently valid OMB control number.

DATES: Comments must be submitted on or before October 31, 2022.

ADDRESSES: Submit your comments, referencing Docket ID No. EPA-HQ-OAR-2003-0073, to (1) EPA online using www.regulations.gov (our preferred method), or by mail to EPA Docket Center, Environmental Protection Agency, Mail Code 28221T, 1200 Pennsylvania Ave. NW, Washington, DC 20460, and (2) OMB via email to oira_submission@omb.eop.gov. Address comments to OMB Desk Officer for EPA. EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 3506(c)(2)(A) of the PRA, in the first FR notice (87 FR 11425) published on March 1, 2022, EPA solicited comments and information pertaining to the distribution of offsite consequence analysis information under the accidental release prevention requirements; Risk Management Programs under the Clean Air Act Section 112(r)(7). The regulations include requirements for submittal of a Risk Management Plan (RMP) to EPA, which includes information on offsite consequence analysis (OCA) as well as other elements of the Risk Management Program.

The Chemical Safety Information, Site Security, and Fuels Regulatory Relief Act (CSISSFRRA), published on August 4, 2000 (65 FR 48108), required the President, who delegated to EPA and the Department of Justice (DOJ), the responsibility to promulgate regulations on the distribution of OCA information, imposed minimal information and recordkeeping requirements.

In accordance with the final rule, the Federal Government established 55 reading rooms at Federal facilities geographically distributed across the United States and its territories, where the public may read, but not mechanically copy or remove, paper copies of OCA information for up to 10 stationary sources per calendar month. The public may also obtain OCA information that the Local Emergency Planning Committee (LEPC) in whose jurisdiction the requestor lives or works, is authorized to provide.

The final rule also authorizes and encourages State and local government officials to access OCA information for their official use, and to provide the public with read-only access to OCA sections of RMPs for sources located within the jurisdiction of the LEPC where the person lives or works and for any other stationary sources with vulnerability zones extending into the LEPC's jurisdiction.

EPA also established a Vulnerable Zone Indicator System (VZIS) which informs any person located in any state whether an address specified by that person might be within the vulnerable zone of one or more stationary sources, according to the data reported in RMPs. The VZIS is available on the internet. Members of the public who do not have access to the internet are able to obtain the same information by regular mail request to the EPA. An agency may not conduct or sponsor, and a person is not required to respond to, a collection of information unless it displays a currently valid OMB control number. The OMB control numbers for EPA's regulations in 40 CFR are listed in 40 CFR part 9.

Form Numbers: None.

Respondents/affected entities: State and local agencies and the public.

Respondent's obligation to respond: Required to obtain or retain a benefit (40 CFR 1400).

The annual respondent universe for this ICR is 315 state and local agencies, LEPCs and individuals (public). The total includes 15 State agencies and three LEPCs that send EPA letters of request for OCA data, five states that experience reading room visits, and three LEPCs that hold five public meetings each year. The public component of the total includes 15 individuals who visit Federal and State reading rooms each year and 262 individuals who request VZIS data. The three LEPCs that hold public meetings are assumed to be the same three LEPCs that send letters of request for OCA data. All other respondents are assumed to be unique.

Estimated number of respondents: 15 (total).

Frequency of response: As necessary.

Total estimated burden: 663 hours (per year). Burden is defined at 5 CFR 1320.03(b).

Total estimated cost: $29,800 (per year), includes $81 annual operation & maintenance costs.

Changes in the estimates: EPA estimates a slight increase in the burden to respondents for this renewal compared to the previous ICR renewal. Even though reading room visits were greatly reduced, if not stopped altogether because of COVID 19 restrictions during the previous ICR period and reading room visits had been declining prior to the COVID restrictions because of the increased use of the website www.rtk.net.

Courtney Kerwin,
Director, Regulatory Support Division.

[FR Doc. 2022-21185 Filed 9-28-22; 8:45 am]

BILLING CODE 6560-50-P